DEPARTMENT OF ENERGY

Federal Energy Regulatory Commission

[Docket No. RP00-592-001]

Wyoming Interstate Company, LTD. Notice of Tariff Compliance Filing

November 14, 2000.

Take notice that on November 6, 2000, Wyoming Interstate Company, Ltd. (WIC), tendered for filing to become part of its FERC Gas Tariff, Second Revised Volume No. 2, Substitute Third Revised Sheet No. 61 to be effective retroactively on September 29, 2000.

WIC states that pursuant to FERC Commission Order, dated October 26, 2000, in Docket No. RP00-592-000, this compliance filing is being made to remove incremental rate tariff language from WIC's Right of First Refusal, Section 5.1 of its General Terms and Conditions.

WIC further states that copies of this filing have been served on WIC's jurisdictional customers and public bodies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29586 Filed 11-17-00; 8:45 am]

BILLING CODE 6717-01-M